DEPARTMENT OF AGRICULTURE

Forest Service

Wenatchee-Okanogan Resource Advisory Committee

AGENCY: Forest Service, USDA.

ACTION: Notice of meetings.

SUMMARY: The Wenatchee-Okanogan Resource Advisory Committee (RAC) will meet in Wenatchee, Washington. The committee is authorized under the Secure Rural Schools and Community Self-Determination Act (the Act) and operates in compliance with the Federal Advisory Committee Act. The purpose of the committee is to improve collaborative relationships and to provide advice and recommendations to the Forest Service concerning projects and funding consistent with Title II of the Act. RAC information, including the meeting summary/minutes can be found at the following website: https://www.fs.usda.gov/main/okawen/workingtogether/advisorycommittees.

DATES: The meeting dates will be held on the following dates:

• May 22, 2019-May 23, 2019, from 9:00 a.m. to 3:30 p.m.,

• May 29, 2019-May 30, 2019, from 9:00 a.m. to 3:30 p.m., and

• June 12, 2019-June 13, 2019, from 9:00 a.m. to 3:30 p.m.

All RAC meetings are subject to cancellation. For updated status of meetings prior to attendance, please contact the person listed under For Further Information Contact.

ADDRESSES: The meeting will be held at the Okanogan-Wenatchee National Forest Headquarters Office, 215 Melody Lane, Wenatchee, Washington.

Written comments may be submitted as described under SUPPLEMENTARY INFORMATION. All comments, including names and addresses when provided, are placed in the record and are available for public inspection and copying. The public may inspect comments received at the Okanogan-Wenatchee National Forest Headquarters Office. Please call ahead to facilitate entry into the building.

FOR FURTHER INFORMATION CONTACT: Robin DeMario, RAC Coordinator, by phone at 509-664-9292 or via email at robin.demario@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meetings is to:

1. Provide status updates regarding Secure Rural Schools Program and Title II funding; and

2. Review and recommend projects for Title II funding for Okanogan, Chelan, Kittitas and Yakima Counties.

These meetings are open to the public. The agenda will include time for people to make oral statements of three minutes or less. Individuals wishing to make an oral statement should request in writing by May 6, 2019, to be scheduled on the agenda. Anyone who would like to bring related matters to the attention of the committee may file written statements with the committee staff before or after the meetings.

Written comments and requests for time for oral comments must be sent to Robin DeMario, RAC Coordinator, 215 Melody Lane, Wenatchee, Washington 98801; by email to robin.demario@usda.gov or via facsimile to 509-664-9286.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: March 25, 2019.
Allen Rowley,
Acting Associate Deputy Chief, National Forest System.

[FR Doc. 2019-07605 Filed 4-16-19; 8:45 am]

BILLING CODE 3411-15-P